DEPARTMENT OF COMMERCE

National Oceanic and Atmospheric Administration

RIN 0648-XE664

Marine Mammals; File No. 20481

AGENCY: National Marine Fisheries Service (NMFS), National Oceanic and Atmospheric Administration (NOAA), Commerce.

ACTION: Notice; issuance of permit.

SUMMARY: Notice is hereby given that a permit has been issued to the British Broadcasting Company (BBC) Natural History Unit, 23 Whiteladies Road, Bristol BS8 2LR, United Kingdom, commercial and educational photography on California sea lions (Zalophus californianus).

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa González or Jennifer Skidmore, (301) 427-8401.

SUPPLEMENTARY INFORMATION: On July 25, 2016, notice was published in the Federal Register (81 FR 48394) that a request for a permit to commercial and educational photography on California sea lions had been submitted by the above-named applicant. The requested permit has been issued under the authority of the Marine Mammal Protection Act of 1972, as amended (16 U.S.C. 1361 et seq.) and the regulations governing the taking and importing of marine mammals (50 CFR part 216).

Permit No. 20481 authorizes filming California sea lions along the California coast and offshore from Point Año Nuevo south to the Channel Islands. Up to 1000 California sea lions may be approached for filming from land, vessel, and underwater (snorkelers or scuba divers). In addition, up to1000 long-beaked common dolphins (Delphinus capensis) and 1000 short-beaked common dolphins (D. delphis) may be incidentally harassed and filmed during operations. The permit expires on August 31, 2017.

In compliance with the National Environmental Policy Act of 1969 (42 U.S.C. 4321 et seq.), a final determination has been made that the activity proposed is categorically excluded from the requirement to prepare an environmental assessment or environmental impact statement.

Dated: September 27, 2016.
Julia Harrison,
Chief, Permits and Conservation Division, Office of Protected Resources, National Marine Fisheries Service.

[FR Doc. 2016-23723 Filed 9-30-16; 8:45 am]

BILLING CODE 3510-22-P